ENVIRONMENTAL PROTECTION AGENCY

40 CFR Part 124

Procedures for Decisionmaking

CFR Correction

In Title 40 of the Code of Federal Regulations, parts 100 to 135, revised as of July 1, 2001, in § 124.15, on page 266, the third sentence of paragraph (a) is revised, and in § 124.56, on page 276, paragraph (b)(1)(vi) is revised, as follows:

§ 124.15 Issuance and effective date of permit.

(a)* * * This notice shall include reference to the procedures for appealing a decision on a RCRA, UIC, PSD, or NPDES permit under § 124.19 of this part. * * *

* * * * *

§ 124.56 Fact sheets (applicable to State programs, see § 123.25 (NPDES).)

* * * * *

(b)* * *

(1)* * *

(vi) Waivers from monitoring requirements granted under § 122.44(a) of this chapter.

[FR Doc. 02-55511 Filed 5-7-02; 8:45 am]

BILLING CODE 1505-01-D